FEDERAL EMERGENCY MANAGEMENT AGENCY

Nondiscrimination on the Basis of Sex in Education Programs or Activities Receiving Federal Financial Assistance

AGENCY: Federal Emergency Management Agency (FEMA).

ACTION: Notice.

SUMMARY: This notice lists federal financial assistance administered by FEMA that is covered by Title IX of the Education Amendments of 1972. Title IX prohibits recipients of federal financial assistance from discriminating on the basis of sex in education programs or activities.

FOR FURTHER INFORMATION CONTACT: Pauline C. Campbell, Director, Office of Equal Rights, Federal Emergency Management Agency, 500 C Street, SW., room 417, Washington, DC 20472, (202) 646-4122, (email) pauline.campbell@fema.gov.

SUPPLEMENTARY INFORMATION: Title IX of the Education Amendments of 1972, 28 U.S.C. 1681-1688, prohibits recipients of federal financial assistance from discriminating on the basis of sex in educational programs or activities. Specifically, the statute states that “[n]o person in the United States shall, on the basis of sex, be excluded from participation in, be denied the benefits of or be subjected to discrimination under any education program or activity receiving Federal financial assistance,” with specific exceptions for various entities, programs, and activities. 20 U.S.C. 1681(a).

Twenty-one (21) federal agencies, including FEMA, published the final common rule for the enforcement of Title IX in the Federal Register on August 30, 2000, 65 FR 52857 to 52895. FEMA's portion of the final common rule will be codified at 44 CFR Part 19. Both Title IX of the Education Amendments and the Title IX common rule prohibit discrimination on the basis of sex in the operation of, and the provision or denial of benefits by, education programs or activities conducted not only by educational institutions but also by other entities, including, law enforcement agencies, and for-profit and nonprofit organizations.

Subpart F of the Title IX common rule requires each federal agency that awards federal financial assistance to publish in the Federal Register a notice of the federal financial assistance covered by the Title IX regulations within sixty (60) days after the effective date of the final common rule. In accordance with Subpart F, FEMA publishes the following:

List of Federal Financial Assistance Administered by the Federal Emergency Management Agency to Which Title IX Applies

Note: All recipients of federal financial assistance from FEMA are subject to Title IX, but Title IX limits its anti-discrimination prohibitions to the educational components of the recipient's program or activity, if any.

If Title IX is otherwise applicable, failure to list a type of federal assistance below does not mean that Title IX does not cover a program or activity.

The following types of federal financial assistance were derived from the Catalog of Federal Domestic Assistance (CFDA).

1. U.S. Fire Administration Assistance Provided By

National Fire Academy Educational Program including training to increase the professional level of the fire service and others responsible for fire prevention and control. (Federal Fire Prevention and Control Act of 1974, as amended, 15 U.S.C. 2201 et seq).

National Fire Academy Training Assistance in the form of travel stipends to students attending Academy courses. (Federal Fire Prevention and Control Act of 1974, as amended, 15 U.S.C. 2201 et seq).

First Responder Counter-Terrorism Training Assistance including training and grants to enhance the capabilities of first responders in managing the consequences of terrorist acts. (Omnibus Consolidated Appropriations Act of 1997, Pub. L. 104-208).

2. Office of Financial Management Assistance Provided By

Emergency Management Performance Grants including training to encourage the development of comprehensive emergency management, including for terrorism consequence management, at the State and local level and to improve emergency planning, preparedness, mitigation, response, and recovery capabilities. (Department of Veterans Affairs, Housing and Urban Development, and Independent Agencies Appropriations Act of 2000, Pub.L. 106-74; Robert T. Stafford Disaster Relief and Emergency Assistance Act, as amended, Title II, section 201(d) 42 U.S.C. 5131(d); Title VI, sections 611 and 613, 42 U.S.C. 5196 and 5196b; and the Omnibus Consolidated Appropriations Act of 1997, Pub.L. 104-208).

3. Preparedness, Training and Exercises Directorate Assistance Provided By

Emergency Management Institute (EMI): Resident Educational Program including training to improve emergency management practices among State and local government managers, and Federal officials, in response to emergencies and disasters. (Robert T. Stafford Disaster Relief and Emergency Assistance Act, 42 U.S.C. 5121 et seq.; National Security Act of 1947, 50 U.S.C. 401 et seq.; Defense Production Act of 1950, 50 U.S.C. App. 2061 et seq.; Earthquake Hazards Reduction Act of 1977, 42 U.S.C. 7701 et seq.).

EMI: Training Assistance/Student Stipend Reimbursement Program (SEP) to defray travel and per diem expenses of State and local emergency management personnel who attend training courses conducted by EMI. (Robert T. Stafford Disaster Relief and Emergency Assistance Act, 42 U.S.C. 5121 et seq.; National Security Act of 1947, 50 U.S.C. 401 et seq.; Defense Production Act of 1950, 50 U.S.C. App. 2061 et seq.; Earthquake Hazards Reduction Act of 1977, 42 U.S.C. 7701 et seq.).

Hazardous Materials Training Program for Implementation of the Superfund Amendment and Reauthorization Act (SARA) of 1986/SARA Title III Training Program, which makes funding available to provide training in support of tribal governments emergency planning, preparedness, mitigation, response, and recovery capabilities, with special emphasis on emergencies associated with hazardous chemicals. (Comprehensive Environmental Response, Compensation, and Liability Act (CERCLA) of 1980, as further amended by the Superfund Amendments and Reauthorization Act (SARA) of 1986, 42 U.S.C. 9615 et seq.

EMI: Independent Study Program training to enhance public and selected audience knowledge of emergency management practices among State and local government managers in response to emergencies and disasters. The program currently consists of 21 courses. (Robert T. Stafford Disaster Relief and Emergency Assistance Act, 42 U.S.C. 5121 et seq.; National Security Act of 1947, 50 U.S.C. 401 et seq.; Defense Production Act of 1950, 50 U.S.C. App. 2061 et seq.; Earthquake Hazards Reduction Act of 1977, 42 U.S.C. 7701 et seq.).

Further information on FEMA federal financial assistance can be found by consulting the Catalog of Domestic Financial Assistance (CFDA) at http://www.cfda.gov. If using the Internet site, please select “Search the Catalog,” select; “Browse the Catalog—By Agency,” and then click on “The Federal Emergency Management Agency.” Catalog information is also available by calling, toll free, 1-800-699-8331 or by writing to: Federal Domestic Assistance Catalog Staff (MVS), General Services Administration, Reporters Building, room 101, 300-7th Street, SW., Washington, DC 20407.

Dated: December 6, 2000.
Pauline C. Campbell,
Director, Office of Equal Rights.

[FR Doc. 00-31902 Filed 12-13-00; 8:45 am]

BILLING CODE 6718-01-P